DEPARTMENT OF ENERGY

Federal Energy Regulatory Commission

Combined Notice of Filings #1

Take notice that the Commission received the following exempt wholesale generator filings:

Docket Numbers: EG18-14-000.

Applicants: Panda Hummel Station LLC.

Description: Notice of Self-Certification of Exempt Wholesale Generator Status of Panda Hummel Station LLC.

Filed Date: 11/8/17.

Accession Number: 20171108-5100.

Comments Due: 5 p.m. ET 11/29/17.

Take notice that the Commission received the following electric rate filings:

Docket Numbers: ER17-615-002.

Applicants: Albany Green Energy, LLC.

Description: Compliance filing: Tariff Revisions for Exelon MBR Entities to be effective 11/9/2017.

Filed Date: 11/8/17.

Accession Number: 20171108-5013.

Comments Due: 5 p.m. ET 11/29/17.

Docket Numbers: ER17-2201-002.

Applicants: Exelon FitzPatrick, LLC.

Description: Compliance filing: Tariff Revisions of the Exelon MBR Entities to be effective 11/9/2017.

Filed Date: 11/8/17.

Accession Number: 20171108-5012.

Comments Due: 5 p.m. ET 11/29/17.

Docket Numbers: ER17-2470-001.

Applicants: Red Dirt Wind Project, LLC.

Description: Tariff Amendment: Red Dirt Wind Project, LLC MBR Tariff to be effective 10/15/2017.

Filed Date: 11/8/17.

Accession Number: 20171108-5154.

Comments Due: 5 p.m. ET 11/29/17.

Docket Numbers: ER18-261-000.

Applicants: Midcontinent Independent System Operator, Inc., Ameren Illinois Company.

Description: § 205(d) Rate Filing: 2017-11-07_SA 3028 Ameren IL-Prairie Power Project#7 Elvaston to be effective 11/8/2017.

Filed Date: 11/7/17.

Accession Number: 20171107-5246.

Comments Due: 5 p.m. ET 11/28/17.

Docket Numbers: ER18-262-000.

Applicants: PJM Interconnection, L.L.C.

Description: § 205(d) Rate Filing: Reliability Pricing Model Offer Cap Tariff Revision—2018 Base Residual Auction to be effective 1/8/2018.

Filed Date: 11/7/17.

Accession Number: 20171107-5247.

Comments Due: 5 p.m. ET 11/28/17.

Docket Numbers: ER18-263-000.

Applicants: ISO New England Inc.

Description: ISO New England Inc., et. al. submits Installed Capacity Requirement, Hydro Quebec Interconnection Capability Credits and Related Values for the 2021/2022 Capacity Commitment Period.

Filed Date: 11/7/17.

Accession Number: 20171107-5248.

Comments Due: 5 p.m. ET 11/28/17.

Docket Numbers: ER18-264-000.

Applicants: ISO New England Inc.

Description: ISO New England Inc. submits Informational filing for Qualification in the Forward Capacity Market.

Filed Date: 11/7/17.

Accession Number: 20171107-5259.

Comments Due: 5 p.m. ET 11/22/17.

Docket Numbers: ER18-265-000.

Applicants: Southwest Power Pool, Inc.

Description: § 205(d) Rate Filing: 1067R8 East Texas Electric Cooperative NITSA and NOA to be effective 11/1/2017.

Filed Date: 11/8/17.

Accession Number: 20171108-5011.

Comments Due: 5 p.m. ET 11/29/17.

Docket Numbers: ER18-266-000.

Applicants: Southern Partners, INC.

Description: Baseline eTariff Filing: Southern Partners, INC MBR Application to be effective 11/8/2017.

Filed Date: 11/8/17.

Accession Number: 20171108-5104.

Comments Due: 5 p.m. ET 11/29/17.

Docket Numbers: ER18-267-000.

Applicants: PJM Interconnection, L.L.C.

Description: Tariff Cancellation: Notice of Cancellation of WMPA SA No. 3148; Queue No. X1-021 to be effective 12/26/2017.

Filed Date: 11/8/17.

Accession Number: 20171108-5119.

Comments Due: 5 p.m. ET 11/29/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 8, 2017.
Nathaniel J. Davis, Sr.,
Deputy Secretary.

[FR Doc. 2017-24789 Filed 11-15-17; 8:45 am]

BILLING CODE 6717-01-P